DEPARTMENT OF ENERGY

Federal Energy Regulatory Commission

[Docket No. CP09-60-000]

Dominion Cove Point LNG, LP; Notice of Availability of the Environmental Assessment for the Proposed Pier Reinforcement Project

May 8, 2009.

The staff of the Federal Energy Regulatory Commission (FERC or Commission) has prepared an environmental assessment (EA) of the Pier Reinforcement Project proposed by Dominion Cove Point LNG, LP (DCP) in the above-referenced docket.

The EA was prepared to satisfy the requirements of the National Environmental Policy Act (NEPA). The FERC staff concludes that approval of the proposed project, with appropriate mitigating measures, would not constitute a major Federal action significantly affecting the quality of the human environment.

The FERC is the lead agency for the preparation of the EA. The United States Coast Guard (Coast Guard) and the United States Army Corps of Engineers (COE) are cooperating agencies for the development of the EA. A cooperating agency has jurisdiction by law or special expertise with respect to the proposed action and participates in the NEPA analysis.

The EA assesses the potential environmental effects of modifications to DCP's existing pier in the Chesapeake Bay at the Cove Point Liquefied Natural Gas (LNG) terminal in Calvert County, Maryland. The Pier Reinforcement Project would involve the following construction activities:

• Addition of ten new mooring dolphins;

• Reinforcement of eight existing breasting dolphins;

• Walkways to connect the mooring dolphins to the existing pier;

• Replacement of the existing gangway system with an automated gangway;

• Installation of new display boards;

• Upgrading the docking control system to incorporate new quick-release mooring hooks;

• Dredging approximately 120,000 cubic yards of sediment directly adjacent to the pier; and

• Placing the dredged material at a permitted dredged material placement site.

The purpose of the project is to upgrade, expand, and modify the existing pier to accommodate DCP's customers and recent advances in LNG ship technology. The reinforced pier would enable the safe docking, discharge, and departure of vessels capable of carrying cargoes of up to 267,000 cubic meters of LNG. These vessels would be larger than those currently authorized for the Cove Point LNG Terminal and would allow comparable quantities of LNG to be delivered using fewer vessels.

The EA has been placed in the public files of the FERC. A limited number of copies of the EA are available for distribution and public inspection at: Federal Energy Regulatory Commission, Public Reference Room, 888 First Street, NE., Room 2A, Washington, DC 20426, (202) 502-8371.

Copies of the EA have been mailed to Federal, State, and local agencies, public interest groups, interested individuals, newspapers and libraries in the project area, and parties to this proceeding. Any person wishing to comment on the EA may do so. To ensure consideration prior to a Commission decision on the proposal, it is important that we receive your comments before the date specified below.

You can make a difference by providing us with your specific comments or concerns about the project. Your comments should focus on the potential environmental effects, reasonable alternatives, and measures to avoid or lessen environmental impacts. The more specific your comments, the more useful they will be. To ensure that your comments are timely and properly recorded, please send in your comments so that they will be received in Washington, DC on or before June 8, 2009.

For your convenience, there are three methods in which you can use to submit your comments to the Commission. In all instances please reference the project docket number (CP09-60-000) with your submission. The Commission encourages electronic filing of comments and has dedicated eFiling expert staff available to assist you at 202-502-8258 or efiling@ferc.gov.

(1) You may file your comments electronically by using the Quick Comment feature, which is located on the Commission's internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister”. You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 3, PJ11.3. Mail your comments promptly, so that they will be received in Washington, DC on or before June 8, 2009.

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision. Further instructions for becoming an intervenor are included in the User's Guide under the “e-filing” link on the Commission's Web site (http://www.ferc.gov).

Affected landowners and parties with environmental concerns may be granted intervenor status upon showing good cause by stating that they have a clear and direct interest in this proceeding which would not be adequately represented by any other parties. You do not need intervenor status to have your comments considered.

The COE is also soliciting comments from the public in order to consider and evaluate the impacts of the proposed project to waters of the United States, including jurisdictional wetlands. All comments received by the COE will become a part of the COE's administrative record and will be considered by the COE in evaluating the Department of the Army permit application. You may submit comments directly to the COE. The COE project number is NAB-2008-01241-M05 (200861276 T61277) (Dominion Cove Point LNG/Pier Reinforcement Project). Copies of any written statements expressing concern for aquatic resources may be submitted to: Mrs. Kathy Anderson, Corps of Engineers, CENAB-OP-RMS, P.O. Box 1715, Baltimore, Maryland 21203-1715.

Additional information about the project is available from the Commission's Office of External Affairs, at 1-866-208-FERC (3372) or on the FERC Internet Web site (http://www.ferc.gov) using the eLibrary link. Click on the eLibrary link, click on “General Search” and enter the docket number excluding the last three digits in the Docket Number field (i.e. CP09-60). Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. E9-11339 Filed 5-14-09; 8:45 am]

BILLING CODE 6717-01-P